DEPARTMENT OF JUSTICE

Notice of Lodging of Proposed Consent Decree Under the Clean Air Act

On June 6, 2018, the Department of Justice filed a Complaint and concurrently lodged a proposed Consent Decree to resolve claims by the United States and the State of West Virginia against Defendant Felman Production, LLC for violations of the Clean Air Act, specifically the National Emission Standards for Hazardous Air Pollutants for Ferroalloys Production as codified at 40 CFR part 63, subpart XXX, effective May 20, 1999, as amended on March 22, 2001, as well as West Virginia's State Implementation Plan and Defendant's Title V Permit. The Complaint alleges that Defendant failed to comply with opacity standards, performance testing and monitoring requirements, and good air pollution control practices at its silicomanganese facility in Letart, West Virginia. The proposed Consent Decree addresses the alleged violations by requiring Defendant to install pollution-control measures, conduct additional monitoring for pollution, and pay a $200,000 civil penalty, equal shares of which are allocated between the United States and the State of West Virginia.

The publication of this notice opens a period for public comment on the Consent Decree. Comments should be addressed to the Acting Assistant Attorney General, Environment and Natural Resources Division, and should refer to United States v. Felman Production, LLC, Civil Action No. 3:18-cv-01003 (S.D. W. Va.), DOJ number 90-5-2-1-10991. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, US DOJ—ENRD, P.O. Box 7611, Washington, DC 20044-7611.

Please enclose a check or money order for $21.00 (25 cents per page reproduction cost) payable to the United States Treasury. For a paper copy without the exhibits and signature pages, the cost is $18.50.

Robert Brook,
Assistant Section Chief, Environmental Enforcement Section, Environment and Natural Resources Division.

[FR Doc. 2018-12862 Filed 6-14-18; 8:45 am]

BILLING CODE 4410-15-P